DEPARTMENT OF COMMERCE

Foreign-Trade Zones Board

[B-1-2021]

Foreign-Trade Zone 114—Peoria, Illinois; Application for Reorganization under Alternative Site Framework

An application has been submitted to the Foreign-Trade Zones (FTZ) Board by the Economic Development Council, Inc., grantee of FTZ 114, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on January 8, 2021.

FTZ 114 was approved by the FTZ Board on December 21, 1984 (Board Order 288, 50 FR 1606, January 11, 1985) and expanded on October 16, 2009 (Board Order 1647, 74 FR 55813, October 29, 2009).

The current zone includes the following sites: Site 1 (88 acres)—Peoria Barge Terminal, Inc., 1925 Darst St., Peoria; Site 2 (150 acres)—United Facilities, Inc., 603 N. Main St., East Peoria; Site 4 (2 acres)—CDO Distribution, Inc., 5703 Smithville Rd., Bartonville; Site 5 (37 acres)—KMI Sales, Inc., 278 Koch St., Pekin; Site 6 (17 acres)—Export Packaging Company, 6409 West Smithville Rd., Bartonville; Site 7 (360 acres)—Rantoul Airport, 601 S. Century Boulevard, Rantoul; Site 8 (333 acres)—Logistics Park Galesburg, 659 Knox Road, Galesburg; and, Site 9 (3 acres)—HK Logistics, 2314 East Wilkins Dr., Mossville.

The grantee's proposed service area under the ASF would be Peoria, Cass, Champaign, Dewitt, Ford, Fulton, Knox, Livingston, Logan, Macon, Marshall,

Mason, McDonough, McLean, Menard, Piatt, Putnam, Sangamon, Schuyler, Stark, Tazewell, Woodford and portions of Bureau and LaSalle Counties, Illinois, as described in the application. If approved, the grantee would be able to serve sites throughout the service area based on companies' needs for FTZ designation. The application indicates that the proposed service area is within and adjacent to the Peoria Customs and Border Protection port of entry.

The applicant is requesting authority to reorganize its zone to include existing Sites 7 and 8 as “magnet” sites and existing Sites 1, 2, 4, 5 and 6 as “usage-driven” sites. The applicant is proposing that existing Site 9 be removed from the zone. The applicant is also requesting approval of a subzone for Rivian Automotive, LLC at the following sites: Proposed Site 1 (528 acres)—110 N. Rivian Motorway, Normal, McLean County; Proposed Site 2 (16 acres)—2601 W. College Avenue, Normal, McLean County; and, Proposed Site 3 (65.6 acres)—301 W. Kerrick Road, Normal, McLean County. The application would have no impact on FTZ 114's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 15, 2021. Rebuttal comments in response to material submitted during the foregoing period may be submitted during the subsequent 15-day period to March 30, 2021.

A copy of the application will be available for public inspection in the “Reading Room” section of the FTZ Board's website, which is accessible via www.trade.gov/ftz. For further information, contact Elizabeth Whiteman at Elizabeth.Whiteman@trade.gov.

Dated: January 8, 2021.
Andrew McGilvray,
Executive Secretary.

[FR Doc. 2021-00713 Filed 1-13-21; 8:45 am]

BILLING CODE 3510-DS-P